DEPARTMENT OF AGRICULTURE

Agricultural Marketing Service

[Doc. # TM-02-09]

Notice of Program Continuation

AGENCY: Agricultural Marketing Service, USDA.

ACTION: Notice Inviting Proposals for fiscal year (FY) 2003 grant funds under the Federal-State Marketing Improvement Program.

SUMMARY: Notice is hereby given that for the Federal-State Marketing Improvement Program (FSMIP) for FY 2003 the Continuing Budget Resolution as well as U.S. House of Representatives and U.S. Senate Appropriations Bills provide $1,347,000, the same amount as for FY 2002. States interested in obtaining funds under the program are invited to submit proposals. While only State Departments of Agriculture or other appropriate State Agencies are eligible to apply for funds, State Agencies are encouraged to involve industry groups and community-based organizations in the development of proposals and the conduct of projects.

DATES: Funds will be allocated on the basis of one round of consideration. Proposals will be accepted through February 14, 2003.

ADDRESSES: Proposals may be sent to: FSMIP Staff, Transportation and Marketing Programs, Agricultural Marketing Service (AMS), U.S. Department of Agriculture, 1400 Independence Avenue, SW., Room 4009 South Building, Washington, DC 20250.

FOR FURTHER INFORMATION CONTACT: Janise Zygmont, FSMIP Staff Officer, (202) 720-2704.

SUPPLEMENTARY INFORMATION: FSMIP is authorized under Section 204(b) of the Agricultural Marketing Act of 1946 (7 U.S.C. 1621 et seq.). FSMIP provides matching grants on a competitive basis to assist State Departments of Agriculture or other appropriate State agencies in conducting studies or developing innovative approaches related to the marketing of U.S. food and agricultural products. Other organizations interested in participating in this program should contact their State Department of Agriculture's Marketing Division to discuss their proposal.

Proposals are submitted by the State Agency and must be accompanied by completed Standard Forms (SF)-424 and SF-424A. Under this program, AMS will not approve the use of funds for advertising or, with limited exceptions, for the purchase of equipment or facilities. Detailed program guidelines may be obtained from your State Department of Agriculture, the above AMS contact, or the FSMIP Web site: http://www.ams.usda.gov/tmd/fsmip.htm .

FSMIP funds can be requested for a wide range of marketing research and marketing service activities, including projects aimed at:

(1) Developing and testing new or more efficient methods of processing, packaging, handling, storing, transporting, and distributing food and other agricultural products;

(2) Assessing customer response to new or alternative agricultural products or marketing services and evaluating potential opportunities for U.S. producers, processors and other agribusinesses, in both domestic and international markets; and,

(3) Identifying problems and impediments in existing channels of trade between producers and consumers of agricultural products and devising improved marketing practices, facilities, or systems to address such problems.

While all proposals which fall within the FSMIP guidelines will be considered, States are encouraged to submit proposals that have regional or national significance and that foster innovation in the following arenas:

(1) Global Economy—preparing U.S. producers to market profitably in a rapidly changing global environment where 96 percent of the world's consumers reside outside the United States;

(2) Consumer-Driven Agriculture—responding to consumer concerns about health and food safety; developing new products that address the needs of the mobile, time-pressed consumer; and studying the uses and value to consumers of food labeling and packaging alternatives;

(3) Agricultural Diversity—identifying niche market opportunities; exploring new markets for agricultural products, such as for industrial and nutraceutical applications; developing value-added products that meet consumer needs while enabling producers to retain a larger share of the food dollar; and developing marketing tools and strategies that will foster long term sustainability of the environment and viable rural communities;

(4) Technical Innovation—using technology to improve food quality, develop new products or processing methods, and address food safety concerns through improved handling processing, or and packaging; and

(5) Transportation and Distribution—fostering efficiencies in the transportation and distribution of U.S. food and agricultural products both domestically and overseas; addressing challenges to exporters of identity-preserved grain and other specialty commodities; assisting small and medium scale producers overcome barriers to accessing new or expanded markets; and applying supply chain management in the marketing system.

FSMIP is listed in the “Catalog of Federal Domestic Assistance” under number 10.156 and subject agencies must adhere to Title VI of the Civil Rights Act of 1964, which bars discrimination in all Federally assisted programs.

Authority: 7 U.S.C. 1621-1627.

Dated: November 13, 2002.
A. J. Yates,
Administrator, Agricultural Marketing Service.

[FR Doc. 02-29531 Filed 11-20-02; 8:45 am]

BILLING CODE 3410-02-P